ENVIRONMENTAL PROTECTION AGENCY

40 CFR Part 52

[FRL-8952-8]

Approval and Promulgation of Air Quality Implementation Plans; Missouri; Update to Materials Incorporated by Reference

AGENCY: Environmental Protection Agency (EPA).

ACTION: Final rule; notice of administrative change.

SUMMARY: EPA is updating the materials submitted by Missouri that are incorporated by reference (IBR) into the State implementation plan (SIP). The regulations affected by this update have been previously submitted by the State agency and approved by EPA. This update affects the SIP materials that are available for public inspection at the National Archives and Records Administration (NARA), the Air and Radiation Docket and Information Center located at EPA Headquarters in Washington, DC, and the Regional Office.

DATES: Effective Date: This action is effective October 8, 2009.

ADDRESSES: SIP materials which are incorporated by reference into 40 CFR part 52 are available for inspection at the following locations: Environmental Protection Agency, Region 7, 901 North 5th Street, Kansas City, Kansas 66101; or at http://www.epa.gov/region07/programs/artd/air/rules/fedapprv.htm; the Air and Radiation Docket and Information Center, EPA Headquarters Library, Room Number 3334, EPA West Building, 1301 Constitution Avenue, NW., Washington, DC 20460, and the National Archives and Records Administration. If you wish to obtain materials from a docket in the EPA Headquarters Library, please call the Office of Air and Radiation Docket at (202) 566-1742. For information on the availability of this material at NARA, call (202) 741-6030, or go to: http://www.archives.gov/federal_register/code_of_federal_regulations/ibr_locations.html.

FOR FURTHER INFORMATION CONTACT: Evelyn VanGoethem at (913) 551-7659, or by e-mail at vangoethem.evelyn@epa.gov.

SUPPLEMENTARY INFORMATION: The SIP is a living document which the State revises as necessary to address the unique air pollution problems in the State. Therefore, EPA from time to time must take action on SIP revisions containing new and/or revised regulations to make them part of the SIP. On May 22, 1997 (62 FR 27968), EPA revised the procedures for incorporating by reference Federally approved SIPs, as a result of consultations between EPA and the Office of Federal Register. The description of the revised SIP document, IBR procedures and “Identification of plan” format are discussed in further detail in the May 22, 1997, Federal Register document.

On June 29, 1999, EPA published a document in the Federal Register (64 FR 34717) beginning the new IBR procedure for Missouri. On May 24, 2004 (69 FR 29435), EPA published an update to the IBR material for Missouri.

In this document, EPA is doing the following:

1. Announcing the update to the IBR material as of August 1, 2009.

2. Correcting the date format in the “State effective date” or “State Submittal date” and “EPA approval date” columns in § 52.820 paragraphs (c), (d) and (e). Dates are numerical month/day/year without additional zeros.

3. Modifying the Federal Register citation in § 52.1320 paragraphs (c), (d) and (e) to reflect the beginning page of the preamble as opposed to the page number of the regulatory text.

4. Removing the first entry for 10-5.220 in § 52.1320 paragraph (c) under Chapter 5.

EPA has determined that today's rule falls under the “good cause” exemption in section 553(b)(3)(B) of the Administrative Procedures Act (APA) which, upon finding “good cause,” authorizes agencies to dispense with public participation and section 553(d)(3), which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by providing notice of the updated Missouri SIP compilation.

Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA has also determined that the provisions of section 307(b)(1) of the Clean Air Act pertaining to petitions for judicial review are not applicable to this action. This action is simply an announcement of prior rulemakings that have previously undergone notice and comment. Prior EPA rulemaking actions for each individual component of the Missouri SIP compilation previously afforded interested parties the opportunity to file a petition for judicial review in the United States Court of Appeals for the appropriate circuit within 60 days of such rulemaking action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: August 24, 2009.
William Rice,
Acting Regional Administrator, Region 7.

40 CFR part 52 is amended as follows:

PART 52—[AMENDED]

1. The authority citation for part 52 continues to read as follows:

Authority: 42 U.S.C. 7401 et seq.

Subpart CC—Missouri

2. In § 52.1320 paragraphs (b), (c), (d) and (e) are revised to read as follows:

§ 52.1320 Identification of plan.

* * * * *

(b) Incorporation by reference. (1) Material listed in paragraphs (c) and (d) of this section with an EPA approval date prior to August 1, 2009, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after August 1, 2009, will be incorporated by reference in the next update to the SIP compilation.

(2) EPA Region 7 certifies that the rules/regulations provided by EPA in the SIP compilation at the addresses in paragraph (b)(3) of this section are an exact duplicate of the officially promulgated State rules/regulations which have been approved as part of the SIP as of August 1, 2009.

(3) Copies of the materials incorporated by reference may be inspected at the Environmental Protection Agency, Region 7, Air Planning and Development Branch, 901 North 5th Street, Kansas City, Kansas 66101; at the EPA, Air and Radiation Docket and Information Center, Room Number 3334, EPA West Building, 1301 Constitution Avenue, NW., Washington, DC 20460; or at the National Archives and Records Administration (NARA). If you wish to obtain material from the EPA Regional Office, please call (913) 551-7659; for material from a docket in EPA Headquarters Library, please call the Office of Air and Radiation Docket at (202) 566-1742. For information on the availability of this material at NARA, call (202) 741-6030, or go to: http://www.archives.gov/federal_register/code_of_federal_regulations/ibr_locations.html.

(c) EPA-approved regulations.

EPA-Approved Missouri Regulations
Missouri citation | Title | State effective date | EPA approval date | Explanation
Missouri Department of Natural Resources | Chapter 2—Air Quality Standards and Air Pollution Control Regulations for the Kansas City Metropolitan Area
10-2.040 | Maximum Allowable Emission of Particulate Matter from Fuel Burning Equipment Used for Indirect Heating | 9/4/84 | 1/24/85, 50 FR 3337. |
10-2.090 | Incinerators | 2/25/70 | 3/18/80, 45 FR 17145. | The State has rescinded this rule.
10-2.100 | Open Burning Restrictions | 4/2/84 | 8/31/84, 49 FR 34484. |
10-2.150 | Time Schedule for Compliance | 2/25/70 | 3/18/80, 45 FR 17145. |
10-2.205 | Control of Emissions from Aerospace Manufacture and Rework Facilities | 3/30/01 | 4/24/02, 67 FR 20036. |
10-2.210 | Control of Emissions from Solvent Metal Cleaning | 2/29/08 | 6/20/08, 73 FR 35074. |
10-2.215 | Control of Emissions from Solvent Cleanup Operations | 5/30/01 | 4/24/02, 67 FR 20036. |
10-2.220 | Liquefied Cutback Asphalt Paving Restricted | 6/3/91 | 6/23/92, 57 FR 27939. |
10-2.230 | Control of Emissions from Industrial Surface Coating Operations | 11/20/91 | 8/24/94, 59 FR 43480. | 4/3/95, 60 FR 16806 (correction).
10-2.260 | Control of Petroleum Liquid Storage, Loading, and Transfer | 4/30/04 | 2/2/05, 70 FR 5379. |
10-2.290 | Control of Emissions from Rotogravure and Flexographic Printing Facilities | 3/30/92 | 8/30/93, 58 FR 45451. | The State rule has Sections (6)(A) and (6)(B), which EPA has not approved. 9/6/94, 59 FR 43376 (correction).
10-2.300 | Control of Emissions from the Manufacturing of Paints, Varnishes, Lacquers, Enamels and Other Allied Surface Coating Products | 11/20/91 | 3/26/03, 68 FR 14539. | 4/3/95, 60 FR 16806 (correction).
10-2.310 | Control of Emissions from the Application of Automotive Underbody Deadeners | 11/20/91 | 8/24/94, 59 FR 43480. | 4/3/95, 60 FR 16806 (correction).
10-2.320 | Control of Emissions from Production of Pesticides and Herbicides | 11/20/91 | 8/24/94, 59 FR 43480. | 4/3/95, 60 FR 16806 (correction).
10-2.330 | Control of Gasoline Reid Vapor Pressure | 5/30/01 | 2/13/02, 67 FR 6660. |
10-2.340 | Control of Emissions from Lithographic Printing Facilities | 9/30/03 | 10/30/03, 68 FR 61758. |
10-2.360 | Control of Emissions from Bakery Ovens | 11/30/95 | 7/20/98, 63 FR 38755. |
10-2.390 | Kansas City Area Transportation Conformity Requirements | 7/27/07 | 10/18/07, 72 FR 59014. |
Chapter 3—Air Pollution Control Regulations for the Outstate Missouri Area
10-3.010 | Auto Exhaust Emission Controls | 2/1/78 | 3/18/80, 45 FR 17145. |
10-3.030 | Open Burning Restrictions | 7/31/98 | 4/1/99, 64 FR 15688. |
10-3.040 | Incinerators | 2/1/78 | 3/18/80, 45 FR 17145. | The State has rescinded this rule.
10-3.060 | Maximum Allowable Emissions of Particulate Matter from Fuel Burning Equipment Used for Indirect Heating | 11/30/02 | 3/18/03, 68 FR 12831. |
Chapter 4—Air Quality Standards and Air Pollution Control Regulations for Springfield-Greene County Area
10-4.040 | Maximum Allowable Emission of Particulate Matter from Fuel Burning Equipment Used for Indirect Heating | 11/30/02 | 3/18/03, 68 FR 12831. |
10-4.080 | Incinerators | 12/16/69 | 3/18/80, 45 FR 17145. | The State has rescinded this rule.
10-4.090 | Open Burning Restrictions | 4/2/84 | 8/31/84, 49 FR 34484. |
10-4.140 | Time Schedule for Compliance | 12/15/69 | 3/18/80, 45 FR 17145. |
Chapter 5—Air Quality Standards and Air Pollution Control Regulations for the St. Louis Metropolitan Area
10-5.030 | Maximum Allowable Emission of Particulate Matter from Fuel Burning Equipment Used for Indirect Heating | 9/4/84 | 1/24/85, 50 FR 3337. |
10-5.040 | Use of Fuel in Hand-Fired Equipment Prohibited | 9/18/70 | 3/18/80, 45 FR 17145. |
10-5.060 | Refuse Not To Be Burned in Fuel Burning Installations | 9/18/70 | 3/18/80, 45 FR 17145. | The State has rescinded this rule.
10-5.070 | Open Burning Restrictions | 1/29/95 | 2/17/00, 65 FR 8060. |
10-5.080 | Incinerators | 9/18/70 | 3/18/80, 45 FR 17145. | The State has rescinded this rule.
10-5.120 | Information on Sales of Fuels To Be Provided and Maintained | 9/18/70 | 3/18/80, 45 FR 17145. |
10-5.130 | Certain Coals To Be Washed | 9/18/70 | 3/18/80, 45 FR 17145. |
10-5.220 | Control of Petroleum Liquid Storage, Loading and Transfer | 9/30/07 | 4/2/08, 73 FR 17893. |
10-5.240 | Additional Air Quality Control Measures May Be Required When Sources Are Clustered in a Small Land Area | 9/18/70 | 3/18/80, 45 FR 17145. |
10-5.250 | Time Schedule for Compliance | 1/18/72 | 3/18/80, 45 FR 17145. |
10-5.290 | More Restrictive Emission Limitations for Sulfur Dioxide and Particulate Matter in the South St. Louis Area | 5/3/82 | 8/30/82, 47 FR 38123. | The State has deleted all provisions to N.L. Industries, which is no longer in operation, and has made significant changes to the provisions affecting Carondelet Coke.
10-5.295 | Control of Emissions from Aerospace Manufacturing and Rework Facilities | 2/29/00 | 5/18/00, 65 FR 31489. |
10-5.300 | Control of Emissions from Solvent Metal Cleaning | 11/30/06 | 3/9/07, 72 FR 10610. |
10-5.310 | Liquefied Cutback Asphalt Restricted | 3/1/89 | 3/5/90, 55 FR 7712. |
10-5.330 | Control of Emissions from Industrial Surface Coating Operations | 12/30/00 | 7/20/01, 66 FR 37904. |
10-5.340 | Control of Emissions from Rotogravure and Flexographic Printing Facilities | 3/30/92 | 8/30/93, 58 FR 45451. | The State rule has Section (6)(A)(B), which EPA has not approved. 9/6/94 59 FR 43376 (correction).
10-5.350 | Control of Emissions from Manufacture of Synthesized Pharmaceutical Products | 11/20/91 | 8/24/94, 59 FR 43480. | 4/3/95, 60 FR 16806 (Correction Notice).
10-5.360 | Control of Emissions from Polyethylene Bag Sealing Operations | 11/20/91 | 8/24/94, 59 FR 43480. | 4/3/95, 60 FR 16806 (Correction Notice).
10-5.370 | Control of Emissions from the Application of Deadeners and Adhesives | 11/20/91 | 8/24/94, 59 FR 43480. | 4/3/95, 60 FR 16806 (Correction Notice).
10-5.380 | Motor Vehicle Emissions Inspection | 12/30/02 | 5/12/03, 68 FR 25414. |
10-5.390 | Control of Emissions from Manufacture of Paints, Varnishes, Lacquers, Enamels and Other Allied Surface Coating Products | 8/30/00 | 8/14/01, 66 FR 42605. |
10-5.410 | Control of Emissions from Manufacture of Polystyrene Resin | 11/20/91 | 8/24/94, 59 FR 43480. | 4/3/95, 60 FR 16806 (Correction Notice).
10-5.420 | Control of Equipment Leaks from Synthetic Organic Chemical and Polymer Manufacturing Plants | 3/11/89 | 3/5/90, 55 FR 7712. |
10-5.440 | Control of Emissions from Bakery Ovens | 12/30/96 | 2/17/00, 65 FR 8060. |
10-5.442 | Control of Emissions from Offset Lithographic Printing Operations | 5/28/95 | 2/17/00, 65 FR 8060. |
10-5.450 | Control of VOC Emissions from Traffic Coatings | 5/28/95 | 2/17/00, 65 FR 8060. |
10-5.451 | Control of Emissions from Aluminum Foil Rolling | 9/30/00 | 7/20/01, 66 FR 37906. |
10-5.455 | Control of Emissions from Solvent Cleaning Operations | 2/28/97 | 2/17/00, 65 FR 8060. |
10-5.480 | St. Louis Area Transportation Conformity Requirements | 7/27/07 | 10/18/07, 72 FR 59014. |
10-5.490 | Municipal Solid Waste Landfills | 12/30/96 | 2/17/00, 65 FR 8060. |
10-5.500 | Control of Emissions from Volatile Organic Liquid Storage | 2/29/00 | 5/18/00, 65 FR 31489. |
10-5.510 | Control of Emissions of Nitrogen Oxides | 5/30/06 | 11/6/06, 71 FR 64888. |
10-5.520 | Control of Volatile Organic Compound Emissions from Existing Major Sources | 2/29/00 | 5/18/00, 65 FR 31489. |
10-5.530 | Control of Volatile Organic Compound Emissions from Wood Furniture Manufacturing Operations | 2/29/00 | 5/18/00, 65 FR 31489. |
10-5.540 | Control of Emissions from Batch Process Operations | 2/29/00 | 5/18/00, 65 FR 31489. |
10-5.550 | Control of Volatile Organic Compound Emissions from Reactor Processes and Distillation Operations Processes in the Synthetic Organic Chemical Manufacturing Industry | 2/29/00 | 5/18/00, 65 FR 31489. |
Chapter 6—Air Quality Standards, Definitions, Sampling and Reference Methods, and Air Pollution Control Regulations
for the State of Missouri
10-6.010 | Ambient Air Quality Standards | 2/28/06 | 12/5/06, 71 FR 70468. |
10-6.020 | Definitions and Common Reference Tables | 9/30/08 | 4/14/09, 74 FR 17086. |
10-6.030 | Sampling Methods for Air Pollution Sources | 2/28/06 | 12/5/06, 71 FR 70468. |
10-6.040 | Reference Methods | 2/28/06 | 12/5/06, 71 FR 70468. |
10-6.050 | Start-up, Shutdown, and Malfunction Conditions | 2/28/02 | 8/27/02, 67 FR 54965. |
10-6.060 | Construction Permits Required | 12/30/04 | 10/10/06, 71 FR 59383. | This revision incorporates by reference elements of EPA's NSR reform rule published December 31, 2002. Provisions of the incorporated reform rule relating to the Clean Unit Exemption, Pollution Control Projects, and exemption from recordkeeping provisions for certain sources using the actual-to-projected-actual emissions projections test are not SIP approved. This revision also incorporates by reference the other provisions of 40 CFR 52.21 as in effect on July 1, 2003, which supersedes any conflicting provisions in the Missouri rule. We are conditionally approving references to 10 CSR 10-6.062 contained in the last sentence of Section (1)(B) and all of section (1)(D). Section 9, pertaining to hazardous air pollutants, is not SIP approved.
10-6.061 | Construction Permits Exemptions | 7/30/06 | 12/4/06, 70315. | Section (3)(A)2.D. is not included in the SIP.
10-6.062 | Construction Permits by Rule | 5/30/07 | 9/26/07, 72 FR 54562. | Section (3)(B)4. is not included in the SIP.
10-6.065 | Operating Permits | 9/30/05 | 2/21/07, 72 FR 7829. | Section (4) Basic State Operating Permits, has not been approved as part of the SIP.
10-6.110 | Submission of Emission Data, Emission Fees, and Process Information | 12/30/07 | 9/15/08, 73 FR 53137. | Section (3)(D), Emissions Fees, has not been approved as part of the SIP.
10-6.120 | Restriction of Emissions of Lead from Specific Lead Smelter-Refinery Installations | 3/30/05 | 6/12/06, 71 FR 33622. |
10-6.130 | Controlling Emissions During Episodes of High Air Pollution Potential | 11/30/02 | 3/18/03, 68 FR 12829. |
10-6.140 | Restriction of Emissions Credit for Reduced Pollutant Concentrations from the Use of Dispersion Techniques | 5/1/86 | 3/31/89, 54 FR 13184. |
10-6.150 | Circumvention | 8/15/90 | 4/17/91, 56 FR 15500. |
10-6.170 | Restriction of Particulate Matter to the Ambient Air Beyond the Premises of Origin | 8/30/98 | 3/31/00, 65 FR 17164. |
10-6.180 | Measurement of Emissions of Air Contaminants | 11/19/90 | 7/23/91, 56 FR 33714. |
10-6.210 | Confidential Information | 1/27/95 | 2/29/96, 61 FR 7714. |
10-6.220 | Restriction of Emission of Visible Air Contaminants | 11/30/02 | 3/18/03, 68 FR 12827. |
10-6.260 | Restriction of Emission of Sulfur Compounds | 2/29/08 | 6/20/08, 73 FR 35071. | Section (3)(B) is not SIP approved.
10-6.280 | Compliance Monitoring Usage | 3/30/02 | 8/27/02, 67 FR 54961. |
10-6.300 | Conformity of General Federal Actions to State Implementation Plans | 9/17/07 | 12/4/07, 72 FR 68072. |
10-6.330 | Restriction of Emissions from Batch-type Charcoal Kilns | 6/30/98 | 12/8/98, 63 FR 67591. |
10-6.350 | Emissions Limitations and Emissions Trading of Oxides of Nitrogen | 5/30/07 | 4/2/08, 73 FR 17890. |
10-6.360 | Control of NOX Emissions from Electric Generating Units and Non-Electric Generating Boilers | 5/30/07 | 4/2/08, 73 FR 17890. |
10-6.362 | Clean Air Interstate Rule Annual NOX Trading Program | 5/18/07 | 12/14/07, 72 FR 71073. |
10-6.364 | Clean Air Interstate Rule Seasonal NOX Trading Program | 5/18/07 | 12/14/07, 72 FR 71073. |
10-6.366 | Clean Air Interstate Rule SO2 Trading Program | 5/18/07 | 12/14/07, 72 FR 71073. |
10-6.380 | Control of NOX Emissions from Portland Cement Kilns | 10/30/05 | 8/15/06, 71 FR 46860. |
10-6.390 | Control of NOX Emissions from Large Stationary Internal Combustion Engines | 10/30/05 | 8/15/06, 71 FR 46860. |
10-6.400 | Restriction of Emission of Particulate Matter from Industrial Processes | 9/30/01 | 11/30/01, 66 FR 59706. |
10-6.410 | Emissions Banking and Trading | 4/30/03 | 8/11/03, 68 FR 47466. |
Missouri Department of Public Safety Division 50-State Highway Patrol Chapter 2—Motor Vehicle Inspection
50-2.010 | Definitions | 4/11/82 | 8/12/85, 50 FR 32411. |
50-2.020 | Minimum Inspection Station Requirements | 10/11/82 | 8/12/85, 50 FR 32411. |
50-2.030 | Inspection Station Classification | 12/11/77 | 8/12/85, 50 FR 32411. |
50-2.040 | Private Inspection Stations | 5/31/74 | 8/12/85, 50 FR 32411. |
50-2.050 | Inspection Station Permits | 11/11/79 | 8/12/85, 50 FR 32411. |
50-2.060 | Display of Permits, Signs and Poster | 11/31/74 | 8/12/85, 50 FR 32411. |
50-2.070 | Hours of Operation | 11/11/83 | 8/12/85, 50 FR 32411. |
50-2.080 | Licensing of Inspector/Mechanics | 4/13/78 | 8/12/85, 50 FR 32411. |
50-2.090 | Inspection Station Operational Requirements | 8/11/78 | 8/12/85, 50 FR 32411. |
50-2.100 | Requisition of Inspection Stickers and Decals | 6/12/80 | 8/12/85, 50 FR 32411. |
50-2.110 | Issuance of Inspection Stickers and Decals | 12/11/77 | 8/12/85, 50 FR 32411. |
50-2.120 | MVI-2 Form | 11/11/83 | 8/12/85, 50 FR 32411. |
50-2.130 | Violations of Laws or Rules Penalty | 5/31/74 | 8/12/85, 50 FR 32411. |
50-2.260 | Exhaust System | 5/31/74 | 8/12/85, 50 FR 32411. |
50-2.280 | Air Pollution Control Devices | 12/11/80 | 8/12/85, 50 FR 32411. |
50-2.290 | Fuel Tank | 5/3/74 | 8/12/85, 50 FR 32411. |
50-2.350 | Applicability of Motor Vehicle Emission Inspection | 5/1/84 | 8/12/85, 50 FR 32411. |
50-2.360 | Emission Fee | 11/1/83 | 8/12/85, 50 FR 32411. |
50-2.370 | Inspection Station Licensing | 12/21/90 | 10/13/92, 57 FR 46778. |
50-2.380 | Inspector/Mechanic Licensing | 11/1/83 | 8/12/85, 50 FR 32411. |
50-2.390 | Safety/Emission Stickers | 11/1/83 | 8/12/85, 50 FR 32411. |
50-2.401 | General Specifications | 12/21/90 | 10/13/92, 57 FR 46778. |
50-2.402 | MAS Software Functions | 12/21/90 | 10/13/92, 57 FR 46778. | The SIP does not include Section (6), Safety Inspection.
50-2.403 | Missouri Analyzer System (MAS) Display and Program Requirements | 12/21/90 | 10/13/92, 57 FR 46778. | The SIP does not include Section (3)(B)4, Safety Inspection Sequences or (3)(M)5(II), Safety Inspection Summary.
50-2.404 | Test Record Specifications | 12/21/90 | 10/13/92, 57 FR 46778. | The SIP does not include Section (5), Safety Inspection Results.
50-2.405 | Vehicle Inspection Certificate, Vehicle Inspection Report, and Printer Function Specifications | 12/21/90 | 10/13/92, 57 FR 46778. |
50-2.406 | Technical Specifications for the MAS | 12/21/90 | 10/13/92, 57 FR 46778. |
50-2.407 | Documentation, Logistics and Warranty Requirements | 12/21/90 | 10/13/92, 57 FR 46778. |
50-2.410 | Vehicles Failing Reinspection | 12/21/90 | 10/13/92, 57 FR 46778. |
50-2.420 | Procedures for Conducting Only Emission Tests | 12/21/90 | 10/13/92, 57 FR 46778. |
Kansas City Chapter 8—Air Quality
8-2 | Definitions | 12/10/98 | 12/22/99, 64 FR 71663. |
8-4 | Open burning | 10/31/96 | 4/22/98, 63 FR 19823. |
8-5 | Emission of particulate matter | 12/10/98 | 12/22/99, 64 FR 71663. | Only subsections 8-5(c)(1)b, 8-5(c)(1)c, 8-5(c)(2)a, 8-5(c)(3)a, 8-5(c)(3)b, 8-5(c)(3)c, 8-5(c)(3)d are approved in the SIP.
Springfield—Chapter 2A—Air Pollution Control Standards
Article I | Definitions | 10/31/96 | 4/22/98, 63 FR 19823. | Only Section 2A-2 is approved by EPA.
Article VII | Stack Emission Test Method | 10/31/96 | 4/22/98, 63 FR 19823. | Only Section 2A-25 is approved by EPA.
Article IX | Incinerator | 10/31/96 | 4/22/98, 63 FR 19823. | Only Sections 2A-34 through 38 are approved by EPA.
Article XX | Test Methods and Tables | 10/31/96 | 4/22/98, 63 FR 19823. | Only Sections 2A-51, 55, and 56 are approved by EPA.
St. Louis City Ordinance 65645
Section 6 | Definitions | 8/28/03 | 12/9/03, 68 FR 68521. | The phrase “other than liquids or gases” in the Refuse definition has not been approved.
Section 15 | Open Burning Restrictions | 8/28/03 | 12/9/03, 68 FR 68521. |

(d) EPA-approved State source-specific permits and orders.

EPA-Approved Missouri Source-Specific Permits and Orders
Name of source | Order/permit number | State effective date | EPA approval date | Explanation
(1) ASARCO Inc. Lead Smelter, Glover, MO | Order | 8/13/80 | 4/27/81, 46 FR 23412
(2) St. Joe Lead (Doe Run) Company Lead Smelter, Herculaneum, MO | Order | 3/21/84 | 6/11/84, 49 FR 24022
(3) AMAX Lead (Doe Run) Company Lead Smelter, Boss, MO | Order | 9/27/84 | 1/7/85, 50 FR 768
(4) Gusdorf Operating Permit, 11440 Lackland Road, St. Louis County, MO | Permit Nos: 04682-04693 | * 4/29/80 | 10/15/84, 49 FR 40164
(5) Doe Run Lead Smelter, Herculaneum, MO | Consent Order | 3/9/90 | 3/6/92, 57 FR 8076
(6) Doe Run Lead Smelter, Herculaneum, MO | Consent Order | 8/17/90 | 3/6/92, 57 FR 8076
(7) Doe Run Lead Smelter, Herculaneum, MO | Consent Order | 7/2/93 | 5/5/95, 60 FR 22274
(8) Doe Run Lead Smelter, Herculaneum, MO | Consent Order (Modification) | 4/28/94 | 5/5/95, 60 FR 22274 | In a notice published on 8/15/97 at 62 FR 43647, EPA required implementation of the contingency measures.
(9) Doe Run Lead Smelter, Herculaneum, MO | Consent Order (Modification) | 11/23/94 | 5/5/95, 60 FR 22274
(10) Doe Run Buick Lead Smelter, Boss, MO | Consent Order | 7/2/93 | 8/4/95, 60 FR 39851
(11) Doe Run Buick Lead Smelter, Iron County, MO | Consent Order (Modification) | 9/29/94 | 8/4/95, 60 FR 39851
(12) ASARCO Glover Lead Smelter, Glover, MO | Consent Decree CV596-98CC with exhibits A-G | 7/30/96 | 3/5/97, 62 FR 9970
(13) Eagle-Picher Technologies, Joplin, MO | Consent Agreement | 08/26/99 | 4/24/00, 65 FR 21649
(14) Doe Run Resource Recycling Facility near Buick, MO | Consent Order | 5/11/00 | 10/18/00, 65 FR 62295
(15) St. Louis University | Medical Waste Incinerator | 9/22/92 | 4/22/98, 63 FR 19823
(16) St. Louis University | Permit Matter No. 00-01-004 | 1/31/00 | 10/26/00, 65 FR 64156
(17) St. Joseph Light & Power SO2 | Consent Decree | 5/21/01 | 11/15/01, 66 FR 57389
(18) Asarco, Glover, MO | Modification of Consent Decree, CV596-98CC | 7/31/00 | 4/16/02, 67 FR 18497
(19) Doe Run, Herculaneum, MO | Consent Judgement, CV301-0052C-J1, with Work Practice Manual and S.O.P. for Control of Lead Emissions (Rev 2000) | 1/5/01 | 4/16/02, 67 FR 18497
(20) Springfield City Utilities James River Power Station SO2 | Consent Agreement | 12/6/01 | 3/25/02, 67 FR 13570
(21) St. Louis University | Permit Matter No. 00-01-004 | 8/28/03 | 12/9/03, 68 FR 68521 | Updates a reference in section II.B. to Ordinance No. 65645.
(22) Doe Run Lead Smelter, Glover, MO | Settlement Agreement | 10/31/03 | 10/29/04, 69 FR 63072
(23) Grossman Iron and Steel Company | Permit No. SR00.045A | 7/19/06 | 12/4/06, 71 FR 70312
(24) Doe Run Herculaneum, MO | Consent Judgment Modification, CV301-0052CCJ1 | 12/20/05 | 5/4/07, 72 FR 25203
* St Louis County.

(e) EPA approved nonregulatory provisions and quasi-regulatory measures.

EPA-Approved Missouri Nonregulatory SIP Provisions
Name of nonregulatory SIP provision | Applicable geographic or nonattainment area | State submittal date | EPA approval date | Explanation
(1) Kansas City and Outstate Air Quality Control Regions Plan | Kansas City and Outstate | 1/24/72 | 5/31/72, 37 FR 10875
(2) Implementation Plan for the Missouri portion of the St. Louis Interstate Air Quality Control Region | St. Louis | 1/24/72 | 5/31/72, 37 FR 10875
(3) Effects of adopting Appendix B to NO2 emissions | St. Louis | 3/27/72 | 5/31/72, 37 FR 10875
(4) CO air quality data base | St. Louis | 5/2/72 | 5/31/72, 37 FR 10875
(5) Budget and manpower projections | Statewide | 2/28/72 | 10/28/72, 37 FR 23089
(6) Emergency episode manual | Kansas City | 5/11/72 | 10/28/72, 37 FR 23089
(7) Amendments to Air Conservation Law | Statewide | 7/12/72 | 10/28/72, 37 FR 23089
(8) Air monitoring plan | Outstate | 7/12/72 | 10/28/72, 37 FR 23089
(9) Amendments to Air Conservation Law | Statewide | 8/8/72 | 10/28/72, 37 FR 23089
(10) Transportation control strategy | Kansas City | 5/11/73, 5/21/73 | 6/22/73, 38 FR 16566
(11) Analysis of ambient air quality data and recommendation to not designate the area as an air quality maintenance area | Kansas City | 4/11/74 | 3/2/76, 41 FR 8962
(12) Recommendation to designate air quality maintenance areas | St. Louis, Columbia, Springfield | 5/6/74 | 9/9/75, 40 FR 41950
(13) Plan to attain the NAAQS | Kansas City, St. Louis | 7/2/79 | 4/9/80, 45 FR 24140 | Correction notice published 7/11/80.
(14) Schedule for I/M program and commitment regarding difficult transportation control measures (TCMs) | St. Louis | 9/9/80 | 3/16/81, 46 FR 16895
(15) Lead SIP | Statewide | 9/2/80, 2/11/81, 2/13/81 | 4/27/81, 46 FR 23412, 7/19/84, 49 FR 29218 | Correction notice published 5/15/81.
(16) Report on recommended I/M program | St. Louis | 12/16/80 | 8/27/81, 46 FR 43139 | No action was taken on the specific recommendations in the report.
(17) Report outlining commitments to TCMs, analysis of TCMs, and results of CO dispersion modeling | St. Louis | 2/12/81, 4/28/81 | 11/10/81, 46 FR 55518
(18) 1982 CO and ozone SIP | St. Louis | 12/23/82, 8/24/83 | 10/15/84, 49 FR 40164
(19) Air quality monitoring plan | Statewide | 6/6/84 | 9/27/84, 49 FR 38103
(20) Vehicle I/M program | St. Louis | 8/27/84 | 8/12/85, 50 FR 32411
(21) Visibility protection plan | Hercules Glades and Mingo Wildlife Area | 5/3/85 | 2/10/86, 51 FR 4916
(22) Plan for attaining the ozone standard by December 31, 1987 | St. Louis | 8/1/85 | 9/3/86, 51 FR 31328
(23) PM10 plan | Statewide | 3/29/88, 6/15/88 | 7/31/89, 54 FR 31524
(24) Construction permit fees including Chapter 643 RSMo | Statewide | 1/24/89, 9/27/89 | 1/9/90, 55 FR 735
(25) PSD NOx requirements including a letter from the State pertaining to the rules and analysis | Statewide | 7/9/90 | 3/5/91, 56 FR 9172
(26) Lead plan | Herculaneum | 9/6/90, 5/8/91 | 3/6/92, 57 FR 8076
(27) Ozone maintenance plan | Kansas City | 10/9/91 | 6/23/92, 57 FR 27939
(28) Small business assistance plan | Statewide | 3/10/93 | 10/26/93, 58 FR 57563
(29) Part D Lead plan | Herculaneum | 7/2/93, 6/30/94, 11/23/94 | 5/5/95, 60 FR 22274
(30) Intermediate permitting program including three letters pertaining to authority to limit potential to emit hazardous air pollutants | Statewide | 3/31/94, 11/7/94, 10/3/94, 2/10/95 | 9/25/95, 60 FR 49340
(31) Part D lead plan | Bixby | 7/2/93, 6/30/94 | 8/4/95, 60 FR 39851
(32) Transportation conformity plans including a policy agreement and a letter committing to implement the State rule consistent with the Federal transportation conformity rule | St. Louis, Kansas City | 2/14/95 | 2/29/96, 61 FR 7711
(33) Emissions inventory update including a motor vehicle emissions budget | Kansas City | 4/12/95 | 4/25/96, 61 FR 18251
(34) Part D Lead Plan | Glover | 8/14/96 | 3/5/97, 62 FR 9970
(35) CO Maintenance Plan | St. Louis | 6/13/97, 6/15/98 | 1/26/99, 64 FR 3855
(36) 1990 Base Year Inventory | St. Louis | 1/20/95 | 2/17/00, 65 FR 8063
(37) 15% Rate-of-Progress Plan | St. Louis | 11/12/99 | 5/18/00, 65 FR 31489
(38) Implementation plan for the Missouri inspection maintenance program | St. Louis | 11/12/99 | 5/18/00, 65 FR 31482
(39) Doe Run Resource Recycling Facility near Buick, MO | Dent Township in Iron County | 5/17/00 | 10/18/00, 65 FR 62298
(40) Commitments with respect to implementation of rule 10 CSR 10-6.350, Emissions Limitations and Emissions Trading of Oxides of Nitrogen | Statewide | 8/8/00 | 12/28/00, 65 FR 82288
(41) Contingency Plan including letter of April 5, 2001 | St. Louis | 10/6/97, 4/5/01 | 6/26/01, 66 FR 34011
(42) Ozone 1-Hour Standard Attainment Demonstration Plan for November 2004 including 2004 On-Road Motor Vehicle Emissions Budgets | St. Louis | 11/10/99, 11/2/00, 2/28/01, 3/7/01 | 6/26/01, 66 FR 34011
(43) Doe Run Resources Corporation Primary lead Smelter, 2000 Revision of Lead SIP | Herculaneum, MO | 1/9/01 | 4/16/02, 67 FR 18502 | The SIP was reviewed and approved by EPA on 1/11/01.
(44) Doe Run Resources Corporation Primary Lead Smelter, 2000 Revision of Lead SIP | Glover, MO | 6/15/01 | 4/16/02, 67 FR 18502 | The SIP was reviewed and approved by EPA on 6/26/01.
(45) Maintenance Plan for the Missouri Portion of the St. Louis Ozone Nonattainment Area including 2014 On-Road Motor Vehicle Emission Budgets | St. Louis | 12/6/02 | 5/12/03, 68 FR 25442
(46) Maintenance Plan for the 1-hour ozone standard in the Missouri portion of the Kansas City maintenance area for the second ten-year period | Kansas City | 12/17/02 | 1/13/04, 69 FR 1923
(47) Vehicle I/M Program | St. Louis | 10/1/03 | 5/13/04, 69 FR 26506
(48) Revised Maintenance Plan of Doe Run Resource Recycling Facility near Buick, MO | Dent Township in Iron County | 4/29/03 | 8/24/04, 69 FR 51953 | Furnace daily throughput limits required to be consistent with rule 10 CSR 10-6.120. Annual production cap in Doe Run construction permit not affected by this rulemaking.
(49) Lead Maintenance Plan | Iron County (part) within boundaries of Liberty and Arcadia Townships | 1/26/04 | 10/29/04, 69 FR 63072
(50) Revision to Maintenance Plan for the 1-hour ozone standard in the Missouri portion of the Kansas City maintenance area for the second ten-year period | Kansas City | 10/28/05 | 6/26/06, 71 FR 36210
(51) CAA 110(a)(2)(D)(i) SIP—Interstate Transport | Statewide | 2/27/07 | 5/8/07, 72 FR 25085
(52) Submittal of the 2002 Base Year Inventory for the Missouri Portion of the St. Louis 8-hour ozone nonattainment area and Emissions Statement SIP | St. Louis | 6/15/06 | 5/31/07, 72 FR 30272
(53) Maintenance Plan for the 8-hour ozone standard in the Missouri portion of the Kansas City area | Kansas City | 5/23/07 | 8/9/07, 72 FR 44778 | This plan replaces numbers (46) and (50).

[FR Doc. E9-23474 Filed 10-7-09; 8:45 am]

BILLING CODE 6560-50-P